DEPARTMENT OF TRANSPORTATION

Office of the Secretary

Notice of Applications for Certificates of Public Convenience and Necessity and Foreign Air Carrier Permits Filed Under Subpart B (Formerly Subpart Q) During the Week Ending March 14, 2015

The following Applications for Certificates of Public Convenience and Necessity and Foreign Air Carrier Permits were filed under Subpart B (formerly Subpart Q) of the Department of Transportation's Procedural Regulations (See 14 CFR 302.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2015-0051.

Date Filed: March 10, 2015.

Due Date for Answers, Conforming Applications, or Motion to Modify Scope: March 31, 2015.

Description: Application of EJME (Portugal) Aircraft Management, Lda (“EJME”) requesting issuance of an exemption and a foreign air carrier permit authorizing EJME to engage in the following: (i) Foreign charter air transportation of persons, property, and mail from any point or points behind any Member State of the European Union, via any point or points in any EU Member State and via intermediate points, to any point or points in the United States and beyond; (ii) foreign charter air transportation of persons, property, and mail between any point or points in the United States and any point or points in any member of the European Common Aviation Area; (iii) foreign charter air transportation of cargo between any point or points in the United States and any other point or points; (iv) other charters pursuant to the prior approval requirements set forth in the Department's regulations governing charters; and (v) charter transportation authorized by any additional route rights made available to European Union carriers in the future, to the extent permitted by EJME's homeland license on file with the Department.

Docket Number: DOT-OST-2015-0055.

Date Filed: March 12, 2015.

Due Date for Answers, Conforming Applications, or Motion to Modify Scope: April 2, 2015.

Description: Application of Royal Jet LLC requesting an exemption and foreign air carrier permit authorizing it to engage in charter foreign air transportation of persons, property and mail to the full extent permitted by the Air Transport Agreement of March 11, 2002 between the Government of the United States of America and the Government of the United Arab Emirates (the “U.S.-UAE Agreement”).

Barbara J. Hairston,
Supervisory Dockets Officer, Docket Operations, Federal Register Liaison.

[FR Doc. 2015-07061 Filed 3-26-15; 8:45 am]

BILLING CODE 4910-9X-P